DEPARTMENT OF TRANSPORTATION

Pipeline and Hazardous Materials Safety Administration

[Docket No. PHMSA-2019-0001]

Pipeline Safety: Information Collection Activities

AGENCY: Pipeline and Hazardous Materials Safety Administration (PHMSA), DOT.

ACTION: Notice and request for comments.

SUMMARY: In accordance with the Paperwork Reduction Act of 1995, PHMSA invites comments on certain information collections that are due to expire in 2019. PHMSA will request an extension with no change for the information collections identified by the Office of Management and Budget (OMB) control numbers 2137-0610, 2137-0624, and 2137-0625, which are due to expire on April 30, 2019. PHMSA will also request an extension with no change for the information collection identified by OMB Control number 2137-0589, which is due to expire on 7/31/2019.

DATES: Interested persons are invited to submit comments on or before April 12, 2019.

ADDRESSES: Comments may be submitted in the following ways:

E-Gov website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the docket number PHMSA-2019-0001 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19476) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on PHMSA-2019-0001.” The Docket Clerk will date stamp the postcard prior to returning it to you via the U.S. mail. Please note that due to delays in the delivery of U.S. mail to federal offices in Washington, DC, we recommend that persons consider an alternative method (internet, fax, or professional delivery service) of submitting comments to the docket and ensuring their timely receipt at DOT.

FOR FURTHER INFORMATION CONTACT: Angela Hill by telephone at 202-366-1246, by fax at 202-366-4566, or by mail at DOT, PHMSA, 1200 New Jersey Avenue SE, PHP-30, Washington, DC 20590-0001.

SUPPLEMENTARY INFORMATION: Section 1320.8(d), Title 5, Code of Federal Regulations, requires PHMSA to provide interested members of the public and affected agencies an opportunity to comment on information collection and recordkeeping requests. This notice identifies several information collection requests that PHMSA will submit to OMB for renewal. The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity. PHMSA requests comments on the following information collections:

1. Title: Pipeline Integrity Management in High Consequence Areas Gas Transmission Pipeline Operators.

OMB Control Number: 2137-0610.

Current Expiration Date: 4/30/2019.

Type of Request: Extension without change of a currently approved collection.

Abstract: This information collection request pertains to Gas Transmission operators jurisdictional to 49 CFR part 192 subpart O—Gas Transmission Integrity Management Program. Pipeline Safety regulations in § 192.907 require gas transmission operators jurisdictional to part 192 subpart O to develop and follow a written integrity management program that contains all the elements described in § 192.911. Gas transmission operators subject to these regulations must also maintain records that demonstrate compliance with part 192 subpart O, as described in § 192.947, for the life of the pipeline. PHMSA or state regulators may review the records as a part of inspections. Gas transmission operators are also required to report to PHMSA certain actions related to their integrity management program.

Affected Public: Gas transmission operators.

Annual Reporting and Recordkeeping Burden:

Estimated number of responses: 733.

Estimated annual burden hours: 1,018,807.

Frequency of Collection: On occasion.

2. Title: Control Room Management/Human Factors.

OMB Control Number: 2137-0624.

Current Expiration Date: 4/30/2019.

Type of Request: Extension without change of a currently approved collection.

Abstract: 49 CFR 192.631 and 195.446 address human factors and other components of control room management. These regulations require operators of hazardous liquid pipelines and gas pipelines to develop and implement a human factors management plan designed to reduce risks associated with human factors in each control room.

Affected Public: Operators of both natural gas and hazardous liquid pipeline systems.

Annual Reporting and Recordkeeping Burden:

Estimated Number of Responses: 2,702.

Estimated Annual Burden Hours: 127,328.

Frequency of Collection: On occasion.

3. Title: Pipeline Safety: Integrity Management Program for Gas Distribution Pipelines.

OMB Control Number: 2137-0625.

Current Expiration Date: 4/30/2019.

Type of Request: Extension without change of a currently approved collection.

Abstract: The Federal Pipeline Safety Regulations require operators of gas distribution pipelines to develop and implement integrity management (IM) programs. The purpose of these programs is to enhance safety by identifying and reducing pipeline integrity risks. PHMSA requires that operators maintain records demonstrating compliance with these requirements for 10 years and that these records must include superseded IM plans.

Affected Public: Operators of gas distribution pipeline systems.

Annual Reporting and Recordkeeping Burden:

Estimated Number of Responses: 9,343.

Estimated Annual burden Hours: 865,178.

Frequency of Collection: On occasion.

4. Title: Response Plans for Onshore Oil Pipelines.

OMB Control Number: 2137-0589.

Current Expiration Date: 7/31/2019.

Type of Request: Revision of a currently approved information collection.

Abstract: 49 CFR part 194 requires an operator of an onshore oil pipeline facility to prepare and submit an oil spill response plan to PHMSA for review and approval.

Affected Public: Operators of onshore oil pipeline facilities.

Estimated Number of Responses: 434.

Estimated Annual Burden Hours: 59,458.

Frequency of Collection: On occasion.

Comments are invited on:

(a) The need for the proposed collection of information, including whether the information will have practical utility in helping the agency to achieve its pipeline safety goals;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on February 05, 2019, under authority delegated in 49 CFR 1.97.
John A. Gale,
Director, Standards and Rulemaking Division.

[FR Doc. 2019-01856 Filed 2-8-19; 8:45 am]

BILLING CODE 4910-60-P